DEPARTMENT OF THE TREASURY

Internal Revenue Service

Advisory Group to the Internal Revenue Service; Tax Exempt and Government Entities Division (TE/GE); Meeting

AGENCY: Internal Revenue Service (IRS), Treasury.

ACTION: Notice.

SUMMARY: The Advisory Committee on Tax Exempt and Government Entities (ACT) will hold a public meeting on Wednesday, June 10, 2009.

FOR FURTHER INFORMATION, CONTACT: Steven J. Pyrek, Director, TE/GE Communications and Liaison; 1111 Constitution Ave., NW.; SE:T:CL—Penn Bldg; Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 10, 2009, from 10 a.m. to 1 p.m., at the Internal Revenue Service; 1111 Constitution Ave., NW.; Room 3313; Washington, DC. Issues to be discussed relate to Employee Plans, Exempt Organizations, and Government Entities. Due to an administrative error, less than 15 days notice is provided for this meeting.

Reports from four ACT subgroups cover the following topics:

• Exempt Organizations: Recommendations to Improve the Tax Rules Governing International Grantmaking.

• Employee Plans: International Pension Issues in a Global Economy: A Survey and Assessment of IRS' Role in Breaking Down the Barriers.

• Tax Exempt Bonds: Record Retention Requirements for Tax-Exempt Bonds and Tax Credit Bonds: A Specific Proposal for Published Guidance.

• Federal, State and Local Governments: Federal-State-Local Government Compliance Verification Checklist for Public Employers

Last minute agenda changes may preclude advance notice. Due to limited seating and security requirements, attendees must call Cynthia PhillipsGrady to confirm their attendance. Ms. PhillipsGrady can be reached at (202) 283-9954.

Attendees are encouraged to arrive at least 30 minutes before the meeting begins to allow sufficient time for security clearance. Picture identification must be presented. Please use the main entrance at 1111 Constitution Ave., NW., to enter the building. Should you wish the ACT to consider a written statement, please call (202) 283-9966, or write to: Internal Revenue Service; 1111 Constitution Ave., NW.; SE:T:CL—Penn Bldg; Washington, DC 20224, or e-mail Steve.J.Pyrek@irs.gov.

Dated: May 20, 2009.
Steven J. Pyrek,
Designated Federal Official, Tax Exempt and Government Entities Division.

[FR Doc. E9-12171 Filed 5-29-09; 8:45 am]

BILLING CODE 4830-01-P